DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of four individuals and two entities whose property and interests in property have been unblocked pursuant to the Foreign Narcotics Kingpin Designation Act (Kingpin Act, 21 U.S.C. 1901-1908, 8 U.S.C. 1182).

DATES: The unblocking and removal from the list of Specially Designated Nationals and Blocked Persons (SDN List) of the individuals and entities identified in this notice whose property and interests in property were blocked pursuant to the Kingpin Act, is effective on February 3, 2016.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On February 3, 2016, the Associate Director of the Office of Global Targeting removed from the SDN List the individuals and entities listed below, whose property and interests in property were blocked pursuant to the Kingpin Act:

Individuals

ADIB MADERO, Michel; DOB 21 Feb 1977; POB Jalisco, Mexico; Cedula No. 3348806 (Mexico); R.F.C. AIMM770221CJ7 (Mexico); C.U.R.P. AIMM770221HJCDDC08 (Mexico) (individual) [SDNTK] (Linked To: RESTAURANT BAR LOS ANDARIEGOS, S.A. DE C.V.; Linked To: BOCADOS DE AUTOR, S.A. DE C.V.).

BORBOA ZAZUETA, Zynthia (a.k.a. BORBOA DE ZAMBADA, Zynthya; a.k.a. BORBOA ZAZUETA, Cinthia), c/o MULTISERVICIOS JEVIZ S.A. DE C.V., Culiacan, Sinaloa, Mexico; Calle Miguel Hidalgo PTE 348, Centro Culiacan, Sinaloa, Mexico; Manuel Bonilla 1166, Guadalupe, Culiacan, Sinaloa, Mexico; Lago Maracaibo 3121, Lago Azul y Ave Lago Azul, Lomas de Boulevard, Culiacan, Sinaloa, Mexico; DOB 30 Jan 1975; POB Sinaloa, Mexico; nationality Mexico; citizen Mexico; Passport 04040046465 (Mexico); R.F.C. BOZZ-750130-LK4 (Mexico); C.U.R.P. BOZC750130MSLRZN09 (Mexico) (individual) [SDNTK].

CHAN INZUNA, Araceli; DOB 08 Feb 1985; nationality Mexico; Passport 03040074084 (Mexico) (individual) [SDNTK].

MEZA FLORES, Flor Angely; DOB 20 Sep 1989; POB Guasave, Sinaloa, Mexico; nationality Mexico; Passport 040068790 (Mexico) (individual) [SDNTK].

Entities

ZARKA DE MEXICO S.A. DE C.V., Miguel Hidalgo No. 348 Pte., Colonia Centro, Donato Guerra y Carrasco, Culiacan, Sinaloa, Mexico; R.F.C. ZME-040520-VD7 (Mexico); Folio Mercantil No. 73894-1 (Mexico) [SDNTK].

ZARKA DE OCCIDENTE S.A. DE C.V., Calle Jose Diego Valadez Rios No. 1676, Colonia Proyecto Urbano Tres Rios, Culiacan, Sinaloa, Mexico; Folio Mercantil No. 72191-1 (Mexico) [SDNTK].

Dated: February 3, 2016.
Gregory T. Gatjanis,
Associate Director, Office of Global Targeting, Office of Foreign Assets Control.

[FR Doc. 2016-02624 Filed 2-9-16; 8:45 am]

BILLING CODE 4810-AL-P